DEPARTMENT OF ENERGY

[OE Docket No. EA-492]

Application To Export Electric Energy; Heartland Generation Ltd.

AGENCY: Office of Electricity, Department of Energy.

ACTION: Notice of application.

SUMMARY: Heartland Generation Ltd. (Applicant or Heartland Generation) has applied for authorization to transmit electric energy from the United States to Canada pursuant to the Federal Power Act.

DATES: Comments, protests, or motions to intervene must be submitted on or before December 9, 2021.

ADDRESSES: Comments, protests, motions to intervene, or requests for more information should be addressed by electronic mail to Electricity.Exports@hq.doe.gov.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On October 7, 2021, Heartland Generation filed an application with DOE (Application or App.) to “transmit electric energy from the United States to Canada for a period of five years.” App. at 1. Heartland Generation states that it “is a corporation organized under the Business Corporations Act of Canada, with its principal place of business [in] Calgary, Alberta, [Canada].” Id. Heartland Generation adds that it “is an indirect subsidiary of ECP ControlCo, LLC.” Id. at 2.

Heartland Generation represents that it “does not own any electric generation or transmission facilities in the United States and, as a power marketer in the United States, does not hold a franchise or service territory or native load obligation in the United States.” App. at 3. Heartland Generation states that it would “purchase surplus electric energy from electric utilities and other suppliers within the United States and [would] export this energy to Canada over the international electric transmission facilities . . . listed in Exhibit C.” Id. at 4. Heartland Generation contends that “[b]ecause this electric energy [would] be purchased from others voluntarily, it [would] be surplus to the needs of the selling entities,” and that the proposed “export of power therefore will not impair the sufficiency of electric power supply in the [United States].” Id.

Heartland Generation further states that “[t]he controls that are inherent in any transaction that complies with all NERC requirements and the export limits imposed by DOE on the referenced transmission facilities are sufficient to ensure that exports by Heartland Generation will not impede, or tend to impede, the coordinated use of transmission facilities within the meaning of Section 202(e) of the [Federal Power Act].” App. at 5.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Heartland Generation's application to export electric energy to Canada should be clearly marked with OE Docket No. EA-492. Additional copies are to be provided directly to Natasha Gianvecchio, 555 Eleventh Street NW, Suite 1000, Washington, DC 20004, natasha.gianvecchio@lw.com; and James B. Blackburn, 555 Eleventh Street NW, Suite 1000, Washington, DC 20004, james.blackburn@lw.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on November 4, 2021.
Christopher Lawrence,
Management and Program Analyst, Electricity Delivery Division, Office of Electricity.

[FR Doc. 2021-24466 Filed 11-8-21; 8:45 am]

BILLING CODE 6450-01-P